NUCLEAR REGULATORY COMMISSION

[Docket No. 70-1151; NRC-2015-0039]

Westinghouse Electric Company, LLC; Columbia Fuel Fabrication Facility

AGENCY: Nuclear Regulatory Commission.

ACTION: Notice of withdrawal of environmental assessment; issuance of draft environmental assessment and draft finding of no significant impact; public meeting and request for comments.

SUMMARY: The U.S. Nuclear Regulatory Commission (NRC) is withdrawing its June 2018 final environmental assessment (EA) and finding of no significant impact (FONSI) concerning the license renewal request from Westinghouse Electric Company, LLC's (WEC) Columbia Fuel Fabrication Facility (CFFF). Because of its withdrawal, the NRC is issuing for public comment a new draft EA and draft FONSI concerning WEC's CFFF. The draft EA, “Environmental Assessment for the Renewal of SNM-1107, Columbia Fuel Fabrication Facility in Richland County, South Carolina,” documents the NRC staff's new environmental review of the license renewal application. The NRC is announcing a public meeting and an open house. The public meeting will allow interested members of the public to submit their comments on the draft EA.

DATES: Comments must be filed no later than November 27, 2019. Comments received after this date will be considered, if it is practical to do so, but the Commission is able to ensure consideration only for comments received on or before this date. The NRC is announcing a public meeting and an open house. The public meeting will allow interested members of the public to submit their comments.

ADDRESSES: You may submit comments by any of the following methods:

• Federal Rulemaking Website: Go to https://www.regulations.gov/ and search for Docket ID NRC-2015-0039. Address questions about NRC docket IDs in Regulations.gov to Jennifer Borges; telephone: 301-287-9127; email: Jennifer.Borges@nrc.gov. For technical questions, contact the individual listed in the FOR FURTHER INFORMATION CONTACT section of this document.

• Mail comments to: Office of Administration, Mail Stop: TWFN-7-A60M, U.S. Nuclear Regulatory Commission, Washington, DC 20555-0001, ATTN: Program Management, Announcements and Editing Staff.

• Email comments to: WEC-CFFF-EA@nrc.gov.

For additional direction on obtaining information and submitting comments, see “Obtaining Information and Submitting Comments” in the SUPPLEMENTARY INFORMATION section of this document.

FOR FURTHER INFORMATION CONTACT: Jessie Muir Quintero, Office of Nuclear Material Safety and Safeguards, U.S. Nuclear Regulatory Commission, Washington, DC 20555-0001; telephone: 301-415-7476; email: Jessie.Quintero@nrc.gov.

SUPPLEMENTARY INFORMATION:

I. Obtaining Information and Submitting Comments

A. Obtaining Information

Please refer to Docket ID NRC-2015-0039 when contacting the NRC about the availability of information for this action. You may obtain publicly available information related to this action by any of the following methods:

• Federal Rulemaking Website: Go to https://www.regulations.gov/ and search for Docket ID NRC-2015-0039.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

B. Submitting Comments

Please include Docket ID NRC-2015-0039 in your comment submission. The NRC cautions you not to include identifying or contact information that you do not want to be publicly disclosed in your comment submission. The NRC will post all comment submissions at https://www.regulations.gov/ as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Introduction

The NRC is considering a request from WEC (ADAMS Accession No. ML14213A105) for the renewal of Special Nuclear Materials (SNM) license SNM-1107, which if approved, would authorize WEC to continue to operate the CFFF for an additional 40 years. The CFFF is located in Hopkins, South Carolina in Richland County.

In June 2018, the NRC published a final EA that documented the environmental impacts of continued operation of the CFFF for an additional 40 years (ADAMS Accession No. ML18120A318). Based on the results of the EA, the NRC issued a FONSI. The NRC noticed issuance of the EA and FONSI on June 15, 2018 (83 FR 28014). Shortly thereafter, in July 2018, there was an equipment leak at the CFFF that resulted in uranium entering the subsurface under the main facility building. In addition, WEC initiated an investigation, under the purview of the South Carolina Department of Health and Environmental Control, into a past leak from a buried pipe that also allowed uranium to enter the subsurface. Because of that new information and public concern about the releases, the NRC decided to re-open its environmental review. Therefore, the EA and FONSI, issued in June 2018, have been withdrawn.

In accordance with the NRC's regulations in part 51 of title 10 of the Code of Federal Regulations (10 CFR), “Environmental Protection Regulations for Domestic Licensing and Related Regulatory Functions,” that implement the National Environmental Policy Act of 1969, as amended (NEPA) (42 U.S.C. 4321 et seq.), the NRC staff has prepared a draft EA documenting its new review of the environmental impacts of continued operation for another 40 years. Based on the environmental review, the NRC has made a preliminary determination that the proposed action will not significantly affect the quality of the human environment, and that a FONSI is therefore appropriate.

By this notice, the NRC is requesting public comment on the draft FONSI and supporting draft EA.

III. Summary of Draft Environmental Assessment

The draft EA is publicly available in ADAMS (ADAMS Accession No. ML19228A278), or at this link: https://www.nrc.gov/docs/ML1922/ML19228a278.pdf. A summary description of the proposed action and expected environmental impacts is provided below.

Description of the Proposed Action

The proposed Federal action is approval of WEC's license renewal request, which if granted would allow WEC to continue fabricating low-enriched uranium fuel assemblies at the CFFF and continue to be a source of nuclear fuel for commercial nuclear power plants. The proposed action analyzed in the draft EA is a renewed license term of 40 years, which is the term WEC has requested.

Environmental Impacts of the Proposed Action

In the draft EA, the NRC staff assessed the potential environmental impacts from the proposed license renewal associated with the following resource areas: land use; geology and soils; water resources; ecological resources; cultural resources; air quality; socioeconomics; environmental justice; noise and aesthetics; public and occupational health; transportation; and waste management. The NRC staff also considered the cumulative impacts from past, present, and reasonably foreseeable future actions when combined with the proposed action.

The NRC staff determined that continued CFFF operations would not result in significant environmental impacts. The WEC is not proposing changes in authorized operations or activities. Past and current activities at CFFF have resulted in soil, surface water, and groundwater contamination from radiological and nonradiological contaminants onsite. The WEC has proposed changes to its NRC-required environmental monitoring program, because of the contamination, that would be implemented during the period of the renewed license. The WEC will also implement actions related to the investigation and remediation of contamination and response to future releases under a Consent Agreement with South Carolina Department of Health and Environmental Control.

Environmental Impacts of the Alternatives to the Proposed Action

As one alternative to the proposed action, the NRC staff considered denial of WEC's license renewal request (i.e., the “no-action” alternative), where NRC would not approve the license renewal. The CFFF would continue to operate under its current license until it expires in 2027. The NRC staff previously evaluated the environmental impacts of WEC operating until 2027 when it approved WEC's license renewal in 2007. The NRC staff concluded in the 2007 EA that the continued operation of the CFFF would not result in significant impact to the environment (ADAMS Accession No. ML070510647).

As another alternative, the NRC considered approval of WEC's renewal request, but for a duration of less than 40 years. The WEC would continue operating for a period of less than 40 years, resulting in potential impacts that would be similar to those of the proposed action. The impacts from decommissioning would be similar but occur earlier.

IV. Draft FONSI

In accordance with NEPA and 10 CFR part 51, the NRC staff has conducted an environmental review of WEC's request to renew its NRC license SNM-1107 to allow WEC to continue its fuel fabrication operations at the CFFF. Based on its environmental review of the proposed action, as documented in the draft EA, the NRC staff preliminarily determined that granting the requested license renewal would not significantly affect the quality of the human environment. Therefore, the NRC staff makes its preliminary determination, pursuant to 10 CFR 51.31, that the preparation of an environmental impact statement (EIS) is not required for the proposed action and a draft FONSI is appropriate.

The draft FONSI and supporting draft EA are a preliminary analysis of the environmental impacts of the proposed action and its alternatives. Based on comments received on the draft FONSI and draft EA, the staff may publish a final FONSI and final EA, or instead may find that preparation of an EIS is warranted should significant impacts resulting from the proposed action be identified. Should an EIS be warranted, a Notice of Intent to prepare the EIS will be published in the Federal Register.

Pursuant to 10 CFR 51.33(a), the NRC staff is making the draft FONSI and draft EA available for public review and comment.

V. Meeting Information

The NRC is announcing that staff will hold a public comment meeting and open house to accept comments on the draft EA. The public meeting will be held on Thursday, November 14, 2019, at the Medallion Conference Center located at 7309 Garners Ferry Road in Columbia, South Carolina. The open house will begin at 5:30 p.m. and the meeting will run from 6:00 p.m. to 8:00 p.m. Persons interested in attending this meeting should check the NRC's Public Meeting Schedule web page at https://www.nrc.gov/pmns/mtg for additional information.

Dated at Rockville, Maryland, this 22nd day of October, 2019.
For the Nuclear Regulatory Commission.
John R. Tappert,
Director, Division of Rulemaking, Environmental, and Financial Support, Office of Nuclear Material Safety and Safeguards.

[FR Doc. 2019-23419 Filed 10-25-19; 8:45 am]

BILLING CODE 7590-01-P